DEPARTMENT OF THE TREASURY

Office of Thrift Supervision

Privacy Act of 1974, as Amended; System of Records

AGENCY: Office of Thrift Supervision, Treasury.

ACTION: Notice of proposed new system of records.

SUMMARY: In accordance with the requirements of the Privacy Act of 1974, as amended, 5 U.S.C. 552a, the Department of the Treasury, Office of Thrift Supervision (OTS), gives notice of a proposed new system of records entitled “Mass Communication System—Treasury/OTS.013.”

DATES: Comments must be received no later than March 11, 2011. This new system of records will be effective March 21, 2011 unless OTS receives comments that would result in a contrary determination.

ADDRESSES: Comments should be sent to the Director of Security, Office of Thrift Supervision, 1700 G Street, NW., Washington, DC 20552. Interested persons may inspect comments at the Public Reading Room, 1700 G Street, NW., by appointment. To make an appointment, call (202) 906-5922, send an e-mail to public.info@ots.treas.gov, or send a facsimile transmission to (202) 906-7755. (Prior notice identifying the materials you will be requesting will assist us in serving you.) Appointments may be scheduled on business days between 10 a.m. and 4 p.m. In most cases, appointments will be available the next business day following the request. All comments received, including attachments and other supporting materials, are part of the public record and subject to public disclosure. You should submit only information that you wish to make publicly available.

FOR FURTHER INFORMATION CONTACT: Ronald Bell, Director of Security, Office of Thrift Supervision, 1700 G Street, NW., Washington, DC 20052. Phone number: 202-906-6240.

SUPPLEMENTARY INFORMATION: The proposed system will allow the OTS to send messages to the OTS workforce and receive confirmation back from staff in order to help senior management access the availability of staff during times of emergency.

The system is being provided through a Software-As-A Service (SAAS) vendor. The system has been populated with the official business contact information of all OTS employees. Employees will have the opportunity to register their personal contact information with the service. As part of the registration process, employees will login to a secured Web site and enter their personal contact information to include: Home phone number, personal cell phone number and e-mail address. Providing this personal contact information is voluntary and employees have the right to decline participation. Employees can also login to the Web site in order to update their contact information. In the event of an emergency or security incident the Security staff will send instruction or guidance to OTS personnel using the contact information provided. This service will be used to communicate with staff during local, regional or national emergencies and security incidents, to help senior management assess the availability of staff during an emergency or security incident, and to provide time-sensitive information to staff.

The report of a new system of records, as required by 5 U.S.C. 552a(r) of the Privacy Act, has been provided to the Committee on Oversight and Government Reform of the House of Representatives, the Committee on Homeland Security and Governmental Affairs of the Senate, and the Office of Management and Budget.

The proposed new system of records entitled “Treasury/OTS.013—Mass Communication System” is published in its entirety below.

Dated: January 25, 2011.
Melissa Hartman,
Deputy Assistant Secretary for Privacy, Transparency, and Records.

Treasury/OTS .013

System Name:

Mass Communication System.

System Location:

The system is hosted at a contractor site in Burbank, California. The address of the contractor may be obtained by writing to the system manager below.

Categories of Individuals Covered:

All employees of The Office of Thrift Supervision.

Categories of Records in the System:

Employee's name, home phone number, personal cell phone number, personal e-mail address, official business phone number, official business e-mail address, official business cell phone number.

Authority for Maintenance of the System:

Executive Order 12148, Federal Emergency Management.

Purpose:

The Office of Thrift Supervision's (OTS) Security Office will use the Mass Communication System to communicate with OTS personnel during and after local, regional or national emergency events, communicate with staff during and after security incidents, disseminate time sensitive information to staff, provide Human Resources and OTS Leadership with employee accountability status during emergency events, and conduct communication tests. The system is a managed service that is hosted at a contractor site. The system will allow Security staff and other authorized individuals to send messages to the OTS workforce and receive confirmation back from staff in order to help senior management assess the availability of staff during times of emergency. Employees have the right to decline to provide personal information, however, their official business contact information is entered into the system by the human resources manager.

Routine Uses of Records Maintained in the system, including categories of users and the purpose of such uses:

Information in these records may be used to:

(1) Make disclosures to a congressional office from the records of an individual in response to an inquiry made at the request of the individual to whom the record pertains;

(2) Representatives of the National Archives and Records Administration (NARA) who are conducting records management inspections under authority of 44 U.S.C. 2904 and 2906.

(3) A contractor for the purpose of full filling a contract, compiling, organizing, analyzing, programming, or otherwise refining records to accomplish an agency function subject to the same limitations applicable to U.S. Department of Treasury officers and employees under the Privacy Act.

(4) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records are maintained in electronic format at the service provider's site.

Retrievability:

Records are retrieved by OTS office and individual name.

Safeguards:

Safeguards in place to prevent misuse of data include: role-based user access, the use of user ID and authorization code to access the Web site, monitoring of application access and database access, encryption of passwords stored in the database, and physical access controls to the building housing the system.

Retention and Disposal:

Records are retained and disposed of in accordance with National Archives and Records Administration General Records Schedules.

System Manager(s) and Address:

Director of Security, Office of Thrift Supervision, 1700 G Street, NW., Washington, DC 20052.

Notification procedure:

Individuals wishing to be notified if they are named in this system or to gain access to records maintained in the system must submit a written request that (1) Identifies the record system; (2) identifies the category and type of records sought; and (3) provides (i) A signature, (ii) an address, and (iii) one other item of identification such as a photocopy of a driver's license or other official document bearing the individual's signature. See 31 CFR part 1, subpart C, Appendix L. Address inquiries to FOIA Office, Office of Thrift Supervision, 1700 G Street, NW., Washington, DC 20552.

Records access procedure:

See “Notification procedure” above.

Contesting record procedures:

See “Notification procedure” above.

Record source categories:

The individual and the agency's human resources system.

Exemptions claimed for the system:

None.

[FR Doc. 2011-2886 Filed 2-8-11; 8:45 am]

BILLING CODE 6720-01-P